SECURITIES AND EXCHANGE COMMISSION

Sunshine Act Meeting; Cancellation

FEDERAL REGISTER CITATION OF PREVIOUS ANNOUNCEMENT: 85 FR 12956, March 5, 2020.

PREVIOUSLY ANNOUNCED TIME AND DATE OF THE MEETING: Tuesday, March 10, 2020 at 9:30 a.m.

CHANGES IN THE MEETING: The Open Meeting scheduled for Tuesday, March 10, 2020 at 9:30 a.m., has been cancelled and will be rescheduled for a future date.

CONTACT PERSON FOR MORE INFORMATION: For further information; please contact Vanessa A. Countryman from the Office of the Secretary at (202) 551-5400.

Dated: March 9, 2020
Vanessa A. Countryman,
Secretary.

[FR Doc. 2020-05100 Filed 3-9-20; 4:15 pm]

BILLING CODE 8011-01-P